ENVIRONMENTAL PROTECTION AGENCY

40 CFR Part 52

[EPA-R06-OAR-2015-0647; FRL-9941-20-Region 6]

Approval and Promulgation of Air Quality Implementation Plans; Arkansas; Crittenden County Base Year Emission Inventory

AGENCY: Environmental Protection Agency (EPA).

ACTION: Proposed rule.

SUMMARY: The Environmental Protection Agency (EPA) is proposing to approve a revision to the Arkansas State Implementation Plan (SIP) submitted to meet the Clean Air Act (CAA) emissions inventory (EI) requirement for the Crittenden County ozone nonattainment area. EPA is approving the SIP revision because it satisfies the CAA EI requirement for Crittenden County under the 2008 8-hour ozone National Ambient Air Quality Standards (NAAQS). The inventory includes emission data for Nitrogen Oxides (NOx) and Volatile Organic Compounds (VOCs). EPA is approving the revisions pursuant to section 110 and part D of the CAA and EPA's regulations.

DATES: Written comments should be received on or before February 16, 2016.

ADDRESSES: Comments may be mailed to Ms. Mary Stanton, Chief, State Implementation B, Ozone and Infrastructure Section (6MM-AB), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Colin Schwartz, (214) 665-7262, Schwartz.Colin@epa.gov.

SUPPLEMENTARY INFORMATION: In the final rules section of this Federal Register, the EPA is approving the State's SIP submittal as a direct rule without prior proposal because the Agency views this as noncontroversial submittal and anticipates no adverse comments. A detailed rationale for the approval is set forth in the direct final rule. If no relevant adverse comments are received in response to this action no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the rules section of this Federal Register.

Dated: December 30, 2015.
Samuel Coleman,
Acting Regional Administrator, Region 6.

[FR Doc. 2016-00560 Filed 1-13-16; 8:45 am]

BILLING CODE 6560-50-P